DEPARTMENT OF COMMERCE

United States Patent and Trademark Office

Submission for OMB Review; Comment Request: Applications for Trademark Registration

The Department of Commerce will submit to the Office of Management and Budget (OMB) for clearance the following proposal for collection of information under the provisions of the Paperwork Reduction Act (44 U.S.C. Chapter 35).

Agency: United States Patent and Trademark Office, Commerce.

Title: Applications for Trademark Registration.

OMB Control Number: 0651-0009.

Form Number(s):

• PTO-1478

• PTO-1479

• PTO-1480

• PTO-1481

• PTO-1482

Type of Request: Regular.

Number of Respondents: 387,981.

Average Minutes per Response: 30.

Burden Hours: 149,267.

Cost Burden: $103,000,869.42.

Needs and Uses: The United States Patent and Trademark Office (USPTO) administers the Trademark Act, 15 U.S.C. 1051 et seq., which provides for the Federal registration of trademarks, service marks, collective trademarks and service marks, collective membership marks, and certification marks. Individuals and businesses who use their marks, or intend to use their marks, in commerce regulable by Congress, may file an application with the USPTO to register their marks. Registered marks remain on the register indefinitely, so long as the owner of the registration files the necessary maintenance documents. The rules implementing the Trademark Act are set forth in 37 CFR part 2.

The Act and rules mandate that each certificate of registration include the mark, the particular goods and/or services for which the mark is registered, the owner's name, dates of use of the mark in commerce, and certain other information. The USPTO also provides similar information to the public concerning pending applications. Individuals or businesses may determine the availability of a mark by accessing the register through the USPTO's Web site. Accessing and reviewing the USPTO's publicly available information may reduce the possibility of initiating use of a mark previously registered or adopted by another. Thus, the Federal trademark registration process reduces unnecessary litigation and its associated costs and burdens. The information in this collection is available to the public.

Trademarks can be registered on either the Principal or Supplemental Register. Registrations on the Principal Register confer all of the benefits of registration provided under the Trademark Act. Certain marks that are not eligible for registration on the Principal Register, but are capable of functioning as a trademark, may be registered on the Supplemental Register. Registrations on the Supplemental Register do not have all of the benefits of marks on the Principal Register. Registrations on the Supplemental Register cannot be transferred to the Principal Register, but owners of registrations on the Supplemental Register may apply for registration of their marks on the Principal Register.

The information in this collection can be submitted in paper format or electronically through the Trademark Electronic Application System (TEAS). Applicants that file applications using the TEAS RF or TEAS Plus forms pay a reduced filing fee if they agree to file certain communications regarding the application through TEAS and to receive communications concerning the application by email. TEAS Plus applicants are also subject to the additional requirement to file a complete application. TEAS Plus applications are only available for trademark/service mark applications. There are no TEAS Plus application forms available for the certification marks, collective marks, collective membership marks, and applications for registration on the Supplemental Register at this time.

Affected Public: Businesses or other for-profits; not-for-profit institutions.

Frequency: On occasion.

Respondent's Obligation: Required to Obtain or Retain Benefits.

This information collection request may be viewed at reginfo.gov. Follow the instructions to view Department of Commerce collections currently under review by OMB.

Written comments may be submitted by any of the following methods:

• Email: InformationCollection@uspto.gov. Include “0651-0009 Applications for Trademark Registration” in the subject line of the message.

• Mail: Marcie Lovett, Office of the Chief Information Officer, United States Patent and Trademark Office, P.O. Box 1450, Alexandria, VA 22313-1450.

• Federal Rulemaking Portal: http://www.regulations.gov.

Margaret McElrath,
Deputy Director, Office of Information Management Services, Department of Commerce—USPTO.

[FR Doc. 2014-30678 Filed 12-31-14; 8:45 am]

BILLING CODE 3510-16-P